DEPARTMENT OF AGRICULTURE

U.S. Codex Office

Codex Alimentarius Commission: Meeting of the Codex Committee on Spices and Culinary Herbs

AGENCY: U.S. Codex Office, USDA.

ACTION: Notice of public meeting and request for comments.

SUMMARY: The U.S Codex Office is sponsoring a public meeting on September 11, 2025. The objective of the public meeting is to provide information and receive public comments on agenda items to be discussed at the 8th Session of the Codex Committee on Spices and Culinary Herbs (CCSCH8) of the Codex Alimentarius Commission (CAC). CCSCH8 will be held in Guwahati, Assam, India, from October 13-17, 2025. The U.S. Manager for Codex Alimentarius and the Under Secretary for Trade and Foreign Agricultural Affairs recognize the importance of providing interested parties the opportunity to obtain background information on the 8th Session of the CCSCH and to address items on the agenda.

DATES: The public meeting is scheduled for September 11, 2025, from 1:00-3:00 p.m. ET.

ADDRESSES: The public meeting will take place via video teleconference only. Documents related to the 8th Session of the CCSCH will be accessible via the internet at the following address: https://www.fao.org/fao-who-codexalimentarius/meetings/detail/en/?meeting=CCSCH&session=8.

Mr. Dorian LaFond, U.S. Delegate to the 8th Session of the CCSCH, invites interested U.S. parties to submit their comments electronically to the following email address: dorian.lafond@usda.gov. Comments should state that they relate to the activities of the 8th Session of the CCSCH.

Registration: Attendees may register to attend the public meeting at the following link: https://www.zoomgov.com/meeting/register/ovdUu6-6Sie8yWTrugp0_A. After registering, you will receive a confirmation email containing information about joining the meeting.

For further information about the 8th Session of the CCSCH, contact U.S Delegate, Mr. Dorian LaFond, dorian.lafond@usda.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Codex Committee on Spices and Culinary Herbs (CCSCH) are:

(a) To elaborate worldwide standards for spices and culinary herbs in their dried and dehydrated state in whole, ground, and cracked or crushed form; and

(b) To consult, as necessary, with other international organizations in the standards development process to avoid duplication.

India hosts the CCSCH. The United States attends the CCSCH as a member country of Codex.

Issues To Be Discussed at the Public Meeting

Although the meeting agenda was not available at the time of publication of this notice, the following items are expected to be on the agenda for the 8th Session of the CCSCH and will be discussed during the public meeting:

• Adoption of the Agenda

• Draft standard for spices derived from dried or dehydrated fruits and berries—vanilla

• Draft standard for sweet marjoram

• Draft standard for dried seeds—coriander

• Draft standard for large cardamon

• Draft standard for cinnamon

• Update to the template for CCSCH standards

• New work proposals

• Other business

Public Meeting

At the September 11, 2025, public meeting, agenda items will be described and attendees will have the opportunity to pose questions and offer comments. Written comments may be offered at the meeting or sent to the U.S Delegate, Mr. Dorian LaFond, dorian.lafond@usda.gov. Written comments should state that they relate to activities of the 8th Session of the CCSCH.

Additional Public Notification

Public awareness of all segments of rulemaking and policy development is important. Consequently, the U.S. Codex Office will announce this Federal Register publication on-line through the USDA Codex web page located at: https://www.usda.gov/codex.

Done at Washington, DC, on August 18, 2025.
Julie A. Chao,
Deputy U.S. Manager for Codex Alimentarius.

[FR Doc. 2025-15892 Filed 8-19-25; 8:45 am]

BILLING CODE 3420-3F-P